UNITED STATES COMMISSION ON CIVIL RIGHTS

Sunshine Act Notice

AGENCY: U.S. Commission on Civil Rights.

DATE AND TIME: Friday, March 3, 2000; 9:30 a.m.

PLACE: U.S. Commission on Civil Rights, 624 Ninth Street, NW, Room 540, Washington, DC 20425.

STATUS

Agenda

I. Approval of Agenda

II. Approval of Minutes of February 18, 2000 Meeting

III. Announcements

IV. Staff Director's Report

V. State Advisory Committee Appointments for Colorado, Georgia and Tennessee

VI. Discussion on Diversity Issues in Network Television

VII. Discussion on Zero Tolerance Briefing

VIII. Discussion with Regional Directors

IX. Future Agenda Items

CONTACT PERSON FOR FURTHER INFORMATION: David Aronson, Press and Communications (202) 376-8312.

Edward A. Hailes, Jr.,
Acting General Counsel.

[FR Doc. 00-4605 Filed 2-23-00; 2:29 pm]

BILLING CODE 6335-00-M